FEDERAL RESERVE SYSTEM

12 CFR Ch. II

Semiannual Regulatory Flexibility Agenda

AGENCY: Board of Governors of the Federal Reserve System.

ACTION: Semiannual regulatory agenda.

SUMMARY: The Board is issuing this agenda under the Regulatory Flexibility Act and the Board's Statement of Policy Regarding Expanded Rulemaking Procedures. The Board anticipates having under consideration regulatory matters as indicated below during the period November 1, 2015, through April 30, 2016. The next agenda will be published in spring 2016.

DATES: Comments about the form or content of the agenda may be submitted anytime during the next 6 months.

ADDRESSES: Comments should be addressed to Robert deV. Frierson, Secretary of the Board, Board of Governors of the Federal Reserve System, Washington, DC 20551.

FOR FURTHER INFORMATION CONTACT: A staff contact for each item is indicated with the regulatory description below.

SUPPLEMENTARY INFORMATION: The Board is publishing its fall 2015 agenda as part of the Fall 2015 Unified Agenda of Federal Regulatory and Deregulatory Actions, which is coordinated by the Office of Management and Budget under Executive Order 12866. The agenda also identifies rules the Board has selected for review under section 610(c) of the Regulatory Flexibility Act, and public comment is invited on those entries. The complete Unified Agenda will be available to the public at the following Web site: www.reginfo.gov. Participation by the Board in the Unified Agenda is on a voluntary basis.

The Board's agenda is divided into four sections. The first, Prerule Stage, reports on matters the Board is considering for future rulemaking. The second section, Proposed Rule Stage, reports on matters the Board may consider for public comment during the next 6 months. The third section, Final Rule Stage, reports on matters that have been proposed and are under Board consideration. And a fourth section, Completed Actions, reports on regulatory matters the Board has completed or is not expected to consider further. A dot (•) preceding an entry indicates a new matter that was not a part of the Board's previous agenda.

Margaret McCloskey Shanks,
Deputy Secretary of the Board.

Federal Reserve System—Proposed Rule Stage
Sequence No. | Title | Regulation Identifier No.
535 | Regulation Q—Regulatory Capital Rules: Regulatory Capital, Proposed Rule Demonstrating Application of Common Equity Tier 1 Capital Qualification Criteria (Docket No: R-1506) | 7100-AE27
536 | Regulation CC—Availability of Funds and Collection of Checks (Docket No: R-1409) | 7100-AD68
537 | Regulation LL—Savings and Loan Holding Companies and Regulation MM—Mutual Holding Companies (Docket No: R-1429) | 7100-AD80

FEDERAL RESERVE SYSTEM (FRS)

Proposed Rule Stage

535. Regulation Q—Regulatory Capital Rules: Regulatory Capital, Proposed Rule Demonstrating Application of Common Equity Tier 1 Capital Qualification Criteria (Docket No: R-1506)

Legal Authority: 12 U.S.C. 1844(b); 12 U.S.C. 1851; 12 U.S.C. 1467a; 12 U.S.C. 1818; 12 U.S.C. 3904; . . .

Abstract: Notice of proposed rulemaking that would illustrate how the Board of Governors of the Federal Reserve System (Board) would apply the common equity tier 1 capital qualification criteria to depository institution holding companies that are organized in forms other than as stock corporations (“proposed rule”). The proposed rule discusses some of the qualification criteria for common equity tier 1 capital under Regulation Q and provides examples of how the Board would apply the criteria in specific situations involving partnerships and limited liability companies. In addition, the proposed rule would amend Regulation Q to address unique issues presented by certain savings and loan holding companies that are trusts and by depository institution holding companies that are employee stock ownership plans.

Timetable:

Action | Date | FR Cite
Board Requested Comments | 12/19/14 | 79 FR 75759
Board Expects Further Action | 01/00/16

Regulatory Flexibility Analysis Required: Yes.

Agency Contact: Christine Graham, Counsel, Federal Reserve System, Legal Division, Phone: 202 452-3005.

Mark Buresh, Attorney, Federal Reserve System, Legal Division, Phone: 202 452-5270.

Thomas R. Boemio, Manager, Federal Reserve System, Division of Banking Supervision and Regulation, Phone: 202 452-2982.

RIN: 7100-AE27

536. Regulation CC—Availability of Funds and Collection of Checks (Docket No: R-1409)

Legal Authority: 12 U.S.C. 4001 to 4010; 12 U.S.C. 5001 to 5018

Abstract: The Board of Governors of the Federal Reserve System (the Board) proposed amendments to Regulation CC to facilitate the banking industry's ongoing transition to fully electronic interbank check collection and return, including proposed amendments to subpart C to condition a depositary bank's right of expeditious return on the depositary bank agreeing to accept returned checks electronically, either directly or indirectly, from the paying bank. The Board also proposed amendments to subpart B, the funds availability schedule provisions to reflect the fact that there are no longer any non-local checks. The Board proposed to revise the model forms in appendix C that banks may use in disclosing their funds availability policies to their customers and to update the preemption determinations in appendix F. Finally, the Board requested comment on whether it should consider future changes to the regulation to improve the check collection system, such as decreasing the time afforded to a paying bank to decide whether to pay a check in order to reduce the risk to a depositary bank of needing to make funds available for withdrawal before learning whether a deposited check has been returned unpaid.

Timetable:

Action | Date | FR Cite
Board Requested Comments | 03/25/11 | 76 FR 16862
Board Requested Comments on Revised Proposal | 02/04/14 | 79 FR 6673
Board Expects Further Action on Subpart C | 12/00/15
Board Expects Further Action on Subpart B | 09/00/16

Regulatory Flexibility Analysis Required: Yes.

Agency Contact: Clinton Chen, Attorney, Federal Reserve System, Legal Division, Phone: 202 452-3952.

RIN: 7100-AD68

537. Regulation LL—Savings and Loan Holding Companies and Regulation MM—Mutual Holding Companies (Docket No: R-1429)

Legal Authority: 5 U.S.C. 552; 5 U.S.C. 559; 5 U.S.C. 1813; 5 U.S.C. 1817; 5 U.S.C. 1828; . . .

Abstract: The Dodd-Frank Act Wall Street Reform and Consumer Protection Act (the Act) transferred responsibility for supervision of Savings and Loan Holding Companies (SLHCs) and their non-depository subsidiaries from the Office of Thrift Supervision (OTS) to the Board of Governors of the Federal Reserve System (Board), on July 21, 2011. The Act also transferred supervisory functions related to Federal savings associations and State savings associations to the Office of the Comptroller of the Currency (OCC) and the Federal Deposit Insurance Corporation (FDIC), respectively. The Board on August 12, 2011, approved an interim final rule for SLHCs, including a request for public comment. The interim final rule transferred from the OTS to the Board the regulations necessary for the Board to supervise SLHCs, with certain technical and substantive modifications. The interim final rule has three components: (1) New Regulation LL (part 238), which sets forth regulations generally governing SLHCs; (2) new Regulation MM (part 239), which sets forth regulations governing SLHCs in mutual form; and (3) technical amendments to existing Board regulations necessary to accommodate the transfer of supervisory authority for SLHCs from the OTS to the Board. The structure of interim final Regulation LL closely follows that of the Board's Regulation Y, which governs bank holding companies, in order to provide an overall structure to rules that were previously found in disparate locations. In many instances, interim final Regulation LL incorporated OTS regulations with only technical modifications to account for the shift in supervisory responsibility from the OTS to the Board. Interim final Regulation LL also reflects statutory changes made by the Dodd-Frank Act with respect to SLHCs, and incorporates Board precedent and practices with respect to applications processing procedures and control issues, among other matters. Interim final Regulation MM organized existing OTS regulations governing SLHCs in mutual form (MHCs) and their subsidiary holding companies into a single part of the Board's regulations. In many instances, interim final Regulation MM incorporated OTS regulations with only technical modifications to account for the shift in supervisory responsibility from the OTS to the Board. Interim final Regulation MM also reflects statutory changes made by the Dodd-Frank Act with respect to MHCs. The interim final rule also made technical amendments to Board rules to facilitate supervision of SLHCs, including to rules implementing Community Reinvestment Act requirements and to Board procedural and administrative rules. In addition, the Board made technical amendments to implement section 312(b)(2)(A) of the Act, which transfers to the Board all rulemaking authority under section 11 of the Home Owner's Loan Act relating to transactions with affiliates and extensions of credit to executive officers, directors, and principal shareholders. These amendments include revisions to parts 215 (Insider Transactions) and part 223 (Transactions with Affiliates) of Board regulations.

Timetable:

Action | Date | FR Cite
Board Requested Comments | 09/13/11 | 76 FR 56508
Board Expects Further Action | 12/00/15

Regulatory Flexibility Analysis Required: Yes.

Agency Contact: C. Tate Wilson, Counsel, Federal Reserve System, Legal Division, Phone: 202 452-3696.

Claudia Von Pervieux, Counsel, Federal Reserve System, Legal Division, Phone: 202 452-2552.

RIN: 7100-AD80

[FR Doc. 2015-30675 Filed 12-14-15; 8:45 am]

BILLING CODE 6210-01-P